DEPARTMENT OF ENERGY

Federal Energy Regulatory Commission

[Docket No. RP00-295-000]

Tennessee Gas Pipeline Company; Notice of Tariff Filing

May 25, 2000.

Take notice that on May 22, 2000, Tennessee Gas Pipeline Company (Tennessee), tendered for filing, for inclusion in Tennessee's FERC Gas Tariff, Fifth Revised Volume No. 1, Fifth Revised Sheet No. 356, with an effective date of June 21, 2000.

Tennessee states that the purpose of this filing is to modify its Tariff to extend the time period for payment after receipt of invoice by shippers who are entities of foreign governments and whose compliance with required governmental accounting practices do not conform to the invoice and payment provisions of Tennessee's Tariff. Tennessee further states that, if the proposed modifications are accepted, it will avoid the necessity of making individual filings of transportation service agreements entered into with these shippers because these transportation services agreements may contain “material deviations” from the pro forma transportation service agreements. Tennessee requests an effective date of June 21, 2000.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-13631 Filed 5-31-00; 8:45 am]

BILLING CODE 6717-01-M